GENERAL SERVICES ADMINISTRATION

Proposed Modification: Catalog of Federal Domestic Assistance Publication Policy

AGENCY: Office of Acquisition Policy, Office of Governmentwide Policy, GSA.

ACTION: Notice of revision in publication policy with request for comment.

SUMMARY: The Catalog of Federal Domestic Assistance is authorized by the Federal Program Information Act, Public Law 95-220, as amended by Public Law 98-169. The laws require OMB to (1) collect and verity the accuracy of agency information regarding currently available Federal domestic assistance programs and (2) provide that information to GSA. GSA is to use the OMB-supplied information to (1) build and maintain a data base of Federal assistance information, (2) disseminate the information through a printed catalog; and (3) provide computerized online access to the information. OMB Circular No. A-89 provides a detailed description of the duties and responsibilities of Federal agencies, GSA, and OMB.

The printed Catalog has been published since 1973 on an annual basis in June with a mid-year update, usually in December. In addition, GSA now provides electronic access to the Catalog information through its web site (www.cfda.gov) and other media. The printed December update edition does not contain all of the information for every Catalog program. Instead, the printed update contains only the new and changed information since the June edition; the full text of new programs and section-by-section modifications of changed programs. The December update must be used in conjunction with the June edition to fully identify and understand programs. In practice, this is difficult and time-consuming. The two publications do not conveniently fit into a single binder. In contrast, the Catalog web site and other electronic media versions always contain the complete, fully updated text for every program.

The Federal Domestic Assistance Catalog Staff, Office of Acquisition Policy, is proposing to no longer publish the printed hard copy December update of the Catalog. The information will continue to be collected from agencies and updated in December each year. Electronic access to the updated information will continue to be available through the Catalog web site and other media. This action is being taken to reduce the paperwork associated with the Catalog and to reduce the cost of operations.

DATES: This change will be effective for the December, 2001 Catalog update. Comments are welcome and must be submitted on or before April 9, 2001. GSA will review all comments and will determine what policy modifications, if any, are necessary.

ADDRESSES: Comments concerning this notice should be submitted to: Kathy Hospodar, Federal Domestic Assistance Catalog Staff, Suite 101—Reporter's Building, 300 7th Street, SW., Washington, DC 20407, or e-mail to kathy.hospodar@gsa.gov.

Dated: February 15, 2001.
David A. Bradkin,
Deputy Associate Administrator, Office of Acquisition Policy, General Services Administration.

[FR Doc. 01-6675 Filed 3-16-01; 8:45 am]

BILLING CODE 6820-61-M